DEPARTMENT OF TRANSPORTATION

Research and Innovative Technology Administration

Agency Information Collection; Activity Under OMB Review; Confidential Close Call Reporting System

AGENCY: Research & Innovative Technology Administration (RITA), Bureau of Transportation Statistics (BTS), DOT.

ACTION: Notice.

SUMMARY: In compliance with the Paperwork Reduction Act of 1995 (44 U.S.C. 3501 et seq.), this notice announces that the Information Collection Request (ICR) described below is being forwarded to the Office of Management and Budget (OMB) for approval for a new information collection in support of a five-year research study aiming at improving rail safety by analyzing information on close calls and other unsafe occurrences in the rail industry. The ICR describes the nature of the information collection and its expected burden. The Federal Register notice with a 60-day comment period soliciting comments on the following collection of information was published on April 27, 2006 (71 FR 24913) and the comment period ended on June 26, 2006. The 60-day notice produced no comments.

DATES: Written comments should be submitted by August 14, 2006.

FOR FURTHER INFORMATION CONTACT: Ms. Demetra V. Collia, Room 3430, RITA, BTS, Department of Transportation, 400 Seventh Street, SW., Washington, DC 20590-0001. Telephone (202) 366-1610, Fax (202) 493-0568 or e-mail demetera.collia@dot.gov.

SUPPLEMENTARY INFORMATION: Title: Confidential Close Call Reporting System.

Type of Request: Approval of a new information collection.

OMB Control Number: New.

Affected Public: Workers in the railroad industry.

Number of Respondents: 350.

Number of Responses: 350.

Total Annual Burden: 175 hours (Average estimate of 30 minutes to complete the survey resulting in a total of 175 hours).

Abstract: Collecting data on the nation's transportation system is an important component of BTS's responsibility to the transportation community and is authorized in BTS statutory authority (49 U.S.C. 111(c)(1) and (2) and 49 U.S.C. 111(c)(5) (j)). BTS and FRA share a common interest in promoting rail safety based on better data. To that end, FRA's Office of Research and Development is sponsoring the Confidential Close Call Reporting System (C³RS) Demonstration Project to investigate the effectiveness of such system in improving rail safety.

A close call represents a situation in which an ongoing sequence of events was stopped from developing further, preventing the occurrence of potentially serious safety-related consequences. This might include the following: (1) Events that happen frequently, but have low safety consequences; (2) events that happen infrequently but have the potential for high consequences (e.g., a train in dark territory proceeds beyond its authority); (3) events that are below the FRA reporting threshold (e.g., an event that causes a minor injury); and (4) events that are reportable to FRA but have the potential for a far greater accident than the one reported (e.g., a slow speed collision with minor damage to the equipment and no injuries.).

Employees involved in a close call will be asked to fill out a reporting form which will be made available on the Web and at their work site and mail it to BTS. The close call reporting form will ask the respondent to provide information on: (1) Name and contact information; (2) time and location of the incident; (3) a short description of the event; (4) contributing factors to the close call; and (5) any other information that might be useful in determining a root cause of such event.

BTS will collect close call reports submitted by railroad employees, develop an analytical database containing the reported data and other pertinent information, and protect the confidentiality of these data through its own statute (49 U.S.C. 111(i)) and the Confidential Information Protection and Statistical Efficiency Act of 2002 (CIPSEA). Accordingly, only statistical and non-sensitive information will be made available through publications and reports. Through the analysis of close calls the FRA and the railroad community will receive information about factors that may contribute to unsafe events and use that information to develop new training programs and identify root causes of potentially adverse events. The database will also provide other users such as rail safety researchers with valuable data regarding precursors to safety risks and contribute to research and development of intervention programs aimed at preventing accidents and fatalities.

It is estimated that the close call reporting form will take no more than 30 minutes to complete for a maximum total burden of 175 hours (350 reports*30 minutes/60 = 175 hours). Reports are submitted when there is a qualifying event, i.e., a close call occurs within a pilot site. The frequency of such event is estimated to be approximately one per day.

ADDRESSES: The agency seeks public comments on its proposed information collection. Comments should address whether the information will have practical utility; the accuracy of the agency's estimate of the burden of the proposed information collection; ways to enhance the quality, utility and clarity of the information to be collected; and ways to minimize the burden of the collection of information on respondents, including the use of automated collection techniques or other forms of information technology. Send comments to the Office of Information and Regulatory Affairs, Office of Management and Budget, 725-17th Street, NW., Washington, DC 20503, Attention: BTS Desk Officer.

Issued in Washington, DC on this 6th day of July, 2006.
William Bannister,
Acting Deputy Director, Bureau of Transportation Statistics, Research and Advanced Technology Administration, U.S. Department of Transportation.

[FR Doc. E6-11034 Filed 7-12-06; 8:45 am]

BILLING CODE 4910-HY-P